DEPARTMENT OF THE INTERIOR

National Park Service

[NPS-WASO-NAGPRA-NPS0033384; PPWOCRADN0-PCU00RP14.R50000]

Notice of Inventory Completion: Beloit College, Logan Museum of Anthropology, Beloit, WI

AGENCY: National Park Service, Interior.

ACTION: Notice.

SUMMARY: Beloit College, Logan Museum of Anthropology has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to Beloit College, Logan Museum of Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Beloit College, Logan Museum of Anthropology at the address in this notice by March 14, 2022.

FOR FURTHER INFORMATION CONTACT: Nicolette B. Meister, Director, Logan Museum of Anthropology, Beloit College, Beloit, WI 53511, telephone (608) 363-2305, email meistern@beloit.edu.

SUPPLEMENTARY INFORMATION: Notice is here given in accordance with the Native American Graves Protection and Repatriation Act (NAGPRA), 25 U.S.C. 3003, of the completion of an inventory of human remains under the control of Beloit College, Logan Museum of Anthropology, Beloit, WI. The human remains were removed from an unknown location in the Northeast region of the United States.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Beloit College, Logan Museum of Anthropology professional staff in consultation with representatives of the Oneida Indian Nation [previously listed as Oneida Nation of New York]; Onondaga Nation; Seneca Nation of Indians [previously listed as Seneca Nation of New York]; and the Seneca-Cayuga Nation [previously listed as Seneca-Cayuga Tribe of Oklahoma]. In addition, an invitation to consult was extended to the Cayuga Nation; Oneida Nation [previously listed as Oneida Tribe of Indians of Wisconsin]; Saint Regis Mohawk Tribe [previously listed as St. Regis Band of Mohawk Indians of New York]; Tonawanda Band of Seneca [previously listed as Tonawanda Band of Seneca Indians of New York]; and the Tuscarora Nation. Hereafter, the Indian Tribes identified in this section are referred to as “The Consulted and Notified Indian Tribes.”

History and Description of the Remains

On an unknown date, human remains representing, at minimum, one individual were removed from an unknown location in the Northeast region of the United States. The provenience of these previously uncatalogued human remains (TR 73.22) is based on their having been found by the Logan Museum of Anthropology in a box labeled “NE: Iroquois.” The human remains belong to an adult female around 36 years in age. No known individual was identified. No associated funerary objects are present.

Determinations Made by the Logan Museum of Anthropology, Beloit College

Officials of Beloit College, Logan Museum of Anthropology have determined that:

• Pursuant to 25 U.S.C. 3001(9), the human remains described in this notice represent the physical remains of one individual of Native American ancestry.

• Pursuant to 25 U.S.C. 3001(2), there is a relationship of shared group identity that can be reasonably traced between the Native American human remains and The Consulted and Notified Indian Tribes.

Additional Requestors and Disposition

Lineal descendants or representatives of any Indian Tribe or Native Hawaiian organization not identified in this notice that wish to request transfer of control of these human remains should submit a written request with information in support of the request to Nicolette B. Meister, Beloit College, Logan Museum of Anthropology, 700 College Street, Beloit, WI 53511, telephone (608) 363-2305, email meistern@beloit.edu, by March 14, 2022. After that date, if no additional requestors have come forward, transfer of control of the human remains to The Consulted and Notified Indian Tribes may proceed.

Beloit College, Logan Museum of Anthropology is responsible for notifying The Consulted and Notified Indian Tribes that this notice has been published.

Dated: February 3, 2022.
Melanie O'Brien,
Manager, National NAGPRA Program.

[FR Doc. 2022-02977 Filed 2-10-22; 8:45 am]

BILLING CODE 4312-52-P